DEPARTMENT OF HEALTH AND HUMAN SERVICES

Decision To Evaluate a Petition To Designate a Class of Employees From Titanium Alloys Manufacturing in Niagara Falls, NY, To Be Included in the Special Exposure Cohort

AGENCY: National Institute for Occupational Safety and Health (NIOSH), Department of Health and Human Services (HHS).

ACTION: Notice.

SUMMARY: HHS gives notice as required by 42 CFR 83.12(e) of a decision to evaluate a petition to designate a class of employees from Titanium Alloys Manufacturing in Niagara Falls, New York, to be included in the Special Exposure Cohort under the Energy Employees Occupational Illness Compensation Program Act of 2000. The initial proposed definition for the class being evaluated, subject to revision as warranted by the evaluation, is as follows:

Facility: Titanium Alloys Manufacturing.

Location: Niagara Falls, New York.

Job Titles and/or Job Duties: All employees who worked in any area or building.

Period of Employment: January 1, 1950 through December 31, 1956.

FOR FURTHER INFORMATION CONTACT: Stuart L. Hinnefeld, Director, Division of Compensation Analysis and Support, National Institute for Occupational Safety and Health (NIOSH), 4676 Columbia Parkway, MS C-46, Cincinnati, OH 45226, Telephone (877) 222-7570. Information requests can also be submitted by email to DCAS@CDC.GOV.

John Howard,
Director, National Institute for Occupational Safety and Health.

[FR Doc. 2011-30577 Filed 11-25-11; 8:45 am]

BILLING CODE 4163-19-P